DEPARTMENT OF COMMERCE

National Oceanic and Atmospheric Administration

RIN 0648-XG931

Fisheries of the Exclusive Economic Zone Off Alaska; Halibut Deck Sorting Monitoring Requirements for Trawl Catcher/Processors Operating in Non-Pollock Groundfish Fisheries off Alaska; Public Meeting

AGENCY: National Marine Fisheries Service (NMFS), National Oceanic and Atmospheric Administration (NOAA), Commerce.

ACTION: Notice of public meeting.

SUMMARY: NMFS representatives will meet with public stakeholders to provide an overview of, and receive public comment on, proposed regulations to implement new catch handling and monitoring requirements to allow Pacific halibut bycatch to be sorted on the deck of trawl catcher/processors and motherships participating in the non-pollock groundfish fisheries off Alaska. The proposed rule is expected to publish in the Federal Register during the first week of April 2019.

DATES: The meeting will be held on April 18, 2019, from 1 p.m. to 3 p.m., Pacific Standard Time.

ADDRESSES: The meeting will be held at The Mountaineers, Cascade A room, located at 7700 Sand Point Way NE, Seattle, WA 98115.

FOR FURTHER INFORMATION CONTACT: Joseph Krieger, 907-586-7650.

SUPPLEMENTARY INFORMATION: The proposed regulations to allow halibut deck sorting would reduce halibut mortality by allowing halibut to be discarded and returned to the sea faster than current monitoring requirements allow. Reducing halibut discard mortality could maximize prosecution of the directed groundfish fisheries that otherwise might be constrained by restrictive halibut prohibited species catch limits, and may benefit vessels participating in the directed halibut fishery by returning more live halibut to the water that would then become available for harvest. Participation in halibut deck sorting and monitoring activities would be voluntary to allow industry flexibility to assess economic conditions and conduct halibut deck sorting when the benefits of reduced mortality provide valuable fishing opportunities that outweigh the operational cost of halibut deck sorting.

NMFS will hold an in-person meeting in Seattle, Washington, on April 18, 2019. Meeting topics include a description of the proposed regulations and an opportunity for the public to provide comments and ask questions.

Special Accommodations

This workshop will be physically accessible to people with disabilities. Requests for sign language interpretation or other auxiliary aids should be directed to Joseph Krieger, 907-586-7650, at least 5 working days prior to the meeting date.

Dated: April 1, 2019.
Jennifer M. Wallace,
Acting Director, Office of Sustainable Fisheries, National Marine Fisheries Service.

[FR Doc. 2019-06594 Filed 4-3-19; 8:45 am]

BILLING CODE 3510-22-P